SECURITIES AND EXCHANGE COMMISSION

Sunshine Act Meeting

Federal Register Citation of Previous Announcement: [To be published].

Status: Closed Meeting.

Place: 450 Fifth Street, NW., Washington, DC.

Announcement of Open Meeting: Additional Meeting.

An additional Closed Meeting was held on Monday, March 17, 2003 at 6 p.m. Commissioner Goldschmid, as duty officer, determined that no earlier notice thereof was possible.

The subject matter of the Closed Meeting was: Institution of an injunctive action.

At times, changes in Commission priorities require alterations in the scheduling of meeting items. For further information and to ascertain what, if any, matters have been added, deleted or postponed, please contact:

The Office of the Secretary at (202) 942-7070.

Dated: March 19, 2003.
Jonathan G. Katz,
Secretary.

[FR Doc. 03-6975 Filed 3-19-03; 4:02 pm]

BILLING CODE 8010-01-P